DEPARTMENT OF THE INTERIOR

Fish and Wildlife Service

50 CFR Part 32

Hunting and Fishing

CFR Correction

In Title 50 of the Code of Federal Regulations, Parts 18 to 199, revised as of October 1, 2009, on page 406, in § 32.45, the second entry for “Northwest Montana Wetland Management District” is removed.

[FR Doc. 2010-23771 Filed 9-21-10; 8:45 am]

BILLING CODE 1505-01-D